DEPARTMENT OF COMMERCE

International Trade Administration

[A-570-830]

Coumarin From the People's Republic of China: Final Results of Antidumping Duty Administrative Review

AGENCY: Import Administration, International Trade Administration, Department of Commerce.

SUMMARY: On March 8, 2001, the Department of Commerce (the Department) published the preliminary results of its administrative review of the antidumping duty order on coumarin from the People's Republic of China (66 FR 13881). The review covers the period February 1, 1999 through January 31, 2000, and two firms: Netchem Inc. (Netchem), a Canadian reseller, and Jiangsu Native Produce Import & Export Corporation (Jiangsu), a Chinese exporter.

We gave interested parties an opportunity to comment on our preliminary results. No interested parties have filed comments on the preliminary results and no request for a hearing has been received by the Department. Therefore, we have not changed the results from those presented in the preliminary results of review, and we will instruct the U.S. Customs Service to assess antidumping duties on suspended entries for Netchem and Jiangsu at the rate determined in the preliminary results (see “Final Results of Review” section below).

EFFECTIVE DATE: June 29, 2001.

FOR FURTHER INFORMATION CONTACT: Elfi Blum or Abdelali Elouaradia, Office of AD/CVD Enforcement VII, Group III, Import Administration, International Trade Administration, U.S. Department of Commerce, 14th Street and Constitution Avenue, NW., Washington, DC 20230; telephone (202) 482-0197 or (202) 482-1374, respectively.

SUPPLEMENTARY INFORMATION:

Applicable Statute

Unless otherwise indicated, all citations to the statute are references to the provisions of the Tariff Act of 1930 (the Act), as amended by the Uruguay Round Agreements Act (URAA) effective January 1, 1995. In addition, unless otherwise indicated, all citations to the Department's regulations are codified at 19 CFR part 351 (2000).

Background

On March 8, 2001, the Department published the preliminary results of the administrative review of the antidumping duty order on coumarin. See Coumarin From the People's Republic of China; Preliminary Results of Antidumping Duty Administrative Review, 66 FR 13881 (March 8, 2001) (Preliminary Results). This review covers imports of subject merchandise from Netchem, a Canadian reseller, and Jiangsu, a Chinese exporter. The period of review (POR) for both companies is February 1, 1999 through January 31, 2000. As noted above, the Department did not receive any comments from interested parties. The Department is conducting this review in accordance with section 751 of the Act.

Scope of the Antidumping Duty Order

The product covered by this order is coumarin. Coumarin is an aroma chemical with the chemical formula C sub9 H sub6 O sub2 that is also known by other names, including 2H-1-benzopyran-2-one, 1,2-benzopyrone, cis-o-coumaric acid lactone, coumarinic anhydride, 2-Oxo-1,2-benzopyran, 5,6-benzo-alpha-pyrone, ortho-hydroxyc innamic acid lactone, cis-ortho-coumaric acid anhydride, and tonka bean camphor. All forms and variations of coumarin are included within the scope of the order, such as coumarin in crystal, flake, or powder form, and “crude” or unrefined coumarin (i.e., prior to purification or crystallization). Excluded from the scope of this order are ethylcoumarins (C sub11 H sub10 O sub2) and methylcoumarins (C sub10 H sub8 O sub2). Coumarin is classifiable under subheading 2932.21.0000 of the Harmonized Tariff Schedule of the United States (HTSUS). Although the HTSUS subheading is provided for convenience and Customs purposes, our written description of the scope of this review is dispositive.

Separate Rates

It is the Department's standard policy to assign all exporters of the merchandise subject to review in non-market economy (NME) countries a single rate, unless an exporter can affirmatively demonstrate an absence of government control, both in law (de jure) and in fact (de facto), with respect to exports. To establish whether a company is sufficiently independent to be entitled to a separate, company-specific rate, the Department analyzes each exporting entity in an NME country under the test established in the Final Determination of Sales at Less Than Fair Value: Sparklers From the People's Republic of China, 56 FR 20588, 20589 (May 6, 1991), as amplified by the Final Determination of Sales at Less Than Fair Value: Silicon Carbide From the People's Republic of China, 59 FR 22585, 22586-2587 (May 2, 1994). Because Netchem is a Canadian reseller, a separate rate analysis is neither requested nor relevant for purposes of this review. Because Jiangsu failed to cooperate, the Department is not granting a separate rate to Jiangsu.

Period of Review

The review period is February 1, 1999 through January 31, 2000.

Use of Adverse Facts Available

As discussed in the Preliminary Results, we preliminarily determined that the application of total adverse facts available with respect to Netchem and Jiangsu was appropriate. Both Netchem and Jiangsu failed to cooperate by not acting to the best of their ability. No parties have commented on this determination, and no new facts have been submitted which would cause the Department to revisit this decision. Therefore, for the reasons set out in the Preliminary Results, (see 66 FR 13881, 13882-13884), we have continued to apply total adverse facts available to Netchem and Jiangsu for the purposes of this final results notice.

Final Results of Review

The Department has not altered its determination from the preliminary results to use the rate of 160.80 percent as the adverse facts available for the period February 1, 1999 through January 31, 2000 for all firms which have not demonstrated that they are entitled to a separate, company-specific rate, and for Netchem.

The Department shall determine, and Customs shall assess, antidumping duties on all appropriate entries. We will direct Customs to assess the resulting percentage margin against the entered Customs values for the subject merchandise on each entry of that importer during the review period.

Cash Deposit Requirements

The following deposit requirements will be effective upon publication of this notice of final results of administrative review for all shipments of coumarin from the PRC entered, or withdrawn from warehouse, for consumption on or after the publication date, as provided for by section 751(a)(2)(c) of the Act: (1) The cash deposit rate for the reviewed companies will be 160.80 percent; (2) for previously-reviewed PRC and non-PRC exporters with separate rates, the cash deposit rate will be the company-specific rate established for the most recent period; (3) for all other PRC exporters, the cash deposit rate will be the PRC-wide rate, 160.80 percent; and (4) for all other non-PRC exporters of the subject merchandise, the cash deposit rate will be the rate applicable to the PRC supplier of that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

These final results of administrative review are issued and published in accordance with sections 751(a)(1) and 777(i)(1) of the Act (19 U.S.C. 1675(a)(1) and 19 U.S.C. 1677f(i)(1)).

Dated: June 22, 2001.
Faryar Shirzad,
Assistant Secretary for Import Administration.

[FR Doc. 01-16454 Filed 6-28-01; 8:45 am]

BILLING CODE 3510-DS-P